SECURITIES AND EXCHANGE COMMISSION

Self-Regulatory Organizations; Notice of Application of Campbell Soup Company To Withdraw Its Common Stock, $.0375 Par Value, From Listing and Registration on the Philadelphia Stock Exchange, Inc., File No. 1-03822

May 24, 2005.

On May 3, 2005, Campbell Soup Company, a New Jersey corporation (“Issuer”), filed an application with the Securities and Exchange Commission (“Commission”), pursuant to Section 12(d) of the Securities Exchange Act of 1934 (“Act”),¹ and Rule 12d2-2(d) thereunder,² to withdraw its common stock, $.0375 par value (“Security”), from listing and registration on the Philadelphia Stock Exchange, Inc. (“Phlx” or “Exchange”).

¹ 15 U.S.C. 78l(d).

² 17 CFR 240.12d2-2(d).

The Board of Directors (“Board”) of the Issuer approved resolutions on March 24, 2005 to voluntarily withdraw the Security from listing on the Exchange. The Board stated that among the reasons for its decision to withdraw the Security from Phlx were: (i) The Issuer maintains the principal listing for the Security on the New York Stock Exchange (“NYSE”); (ii) the maintenance of multiple listings requires significant time and expense in ensuring compliance with the rules and disclosure requirements of both the NYSE and the Phlx; and (iii) in the judgment of the Board, the benefits of continued listing on the Phlx are outweighed by the incremental cost and administrative burden of such listing.

The Issuer states in its application that it has met the requirements of Phlx Rule 809 governing an issuer's voluntary withdrawal of a security from listing and registration by providing the required documents for withdrawal from Phlx. The Issuer's application relates solely to the withdrawal of the Security from listing on the Phlx, and shall not affect its continued listing on the NYSE or its obligation to be registered under Section 12(b) of the Act.³

³ 15 U.S.C. 78l(b).

Any interested person may, on or before June 15, 2005, comment on the facts bearing upon whether the application has been made in accordance with the rules of Phlx, and what terms, if any, should be imposed by the Commission for the protection of investors. All comment letters may be submitted by either of the following methods:

Electronic Comments

• Use the Commission's Internet comment form (http://www.sec.gov/rules/delist.shtml); or

• Send an e-mail to rule-comments@sec.gov. Please include the File Number 1-03822 or;

Paper Comments

• Send paper comments in triplicate to Jonathan G. Katz, Secretary, Securities and Exchange Commission, 450 Fifth Street, NW, Washington, DC 20549-0609. All submissions should refer to File Number 1-03822. This file number should be included on the subject line if e-mail is used. To help us process and review your comments more efficiently, please use only one method. The Commission will post all comments on the Commission's Internet Web site (http://www.sec.gov/rules/delist.shtml). Comments are also available for public inspection and copying in the Commission's Public Reference Room. All comments received will be posted without change; we do not edit personal identifying information from submissions. You should submit only information that you wish to make available publicly.

The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. E5-2749 Filed 5-31-05; 8:45 am]

BILLING CODE 8010-01-P